DEPARTMENT OF ENERGY

Federal Energy Regulatory Commission

Combined Notice of Filings #1

Take notice that the Commission received the following electric corporate filings:

Docket Numbers: EC13-36-000.

Applicants: Shiloh IV Wind Project, LLC, Shiloh IV Lessee, LLC.

Description: Application for Approval under Section 203 of the Federal Power Act and Requests for Expedited Consideration and Confidential Treatment of Shiloh IV Wind Project, LLC and Shiloh IV Lessee, LLC.

Filed Date: 11/9/12.

Accession Number: 20121109-5237.

Comments Due: 5 p.m. ET 11/30/12.

Take notice that the Commission received the following electric rate filings:

Docket Numbers: ER11-2664-004.

Applicants: Powerex Corp.

Description: Powerex Corp. submits update of plans to file with British Columbia Utilities Commission.

Filed Date: 11/9/12.

Accession Number: 20121109-5136.

Comments Due: 5 p.m. ET 11/30/12.

Docket Numbers: ER12-2471-001.

Applicants: Midwest Independent Transmission System Operator, Inc.

Description: SA 2465 Rock Aetna Power Partners G621 to be effective 8/18/2012.

Filed Date: 11/9/12.

Accession Number: 20121109-5170.

Comments Due: 5 p.m. ET 11/30/12.

Docket Numbers: ER12-2642-003.

Applicants: North Eastern States, Inc.

Description: Baseline Amendment Filing to be effective 12/2/2012.

Filed Date: 11/9/12.

Accession Number: 20121109-5172.

Comments Due: 5 p.m. ET 11/30/12.

Docket Numbers: ER13-33-001.

Applicants: Collegiate Clean Energy, LLC.

Description: Market-Based Rate Tariff to be effective 11/5/2012.

Filed Date: 11/9/12.

Accession Number: 20121109-5165.

Comments Due: 5 p.m. ET 11/30/12.

Docket Numbers: ER13-347-000.

Applicants: PJM Interconnection, L.L.C.

Description: Revisions to the OATT & OA re Residual Zonal Pricing to be effective 1/8/2013.

Filed Date: 11/9/12.

Accession Number: 20121109-5146.

Comments Due: 5 p.m. ET 11/30/12.

Docket Numbers: ER13-348-000.

Applicants: NSTAR Electric Company.

Description: Revision to NSTAR Electric MBR Tariff to be effective 11/10/2012.

Filed Date: 11/9/12.

Accession Number: 20121109-5149.

Comments Due: 5 p.m. ET 11/30/12.

Docket Numbers: ER13-349-000.

Applicants: PJM Interconnection, L.L.C.

Description: Revisions to the PJM OA Schedule 12 to remove City Power Marketing as PJM Member to be effective 12/31/9998.

Filed Date: 11/9/12.

Accession Number: 20121109-5162.

Comments Due: 5 p.m. ET 11/30/12.

Docket Numbers: ER13-350-000.

Applicants: SWG Colorado, LLC.

Description: Rate Schedules for Emergency Power to be effective 11/10/2012.

Filed Date: 11/9/12.

Accession Number: 20121109-5163.

Comments Due: 5 p.m. ET 11/30/12.

Docket Numbers: ER13-351-000.

Applicants: AES Huntington Beach, L.L.C.

Description: RMR Agreement between AES Huntington Beach, L.L.C. and ISO to be effective 11/9/2012.

Filed Date: 11/9/12.

Accession Number: 20121109-5166.

Comments Due: 5 p.m. ET 11/28/12.

Docket Numbers: ER13-352-000.

Applicants: Powerex Corp.

Description: Category Seller Change to be effective 11/2/2012.

Filed Date: 11/9/12.

Accession Number: 20121109-5167

Comments Due: 5 p.m. ET 11/30/12.

Take notice that the Commission received the following qualifying facility filings:

Docket Numbers: QF13-78-000.

Applicants: Kyocera America, Inc.

Description: Form 556 of Kyocera America, Inc.

Filed Date: 11/13/12.

Accession Number: 20121113-5086.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 13, 2012.
Nathaniel J. Davis, Sr.,
Deputy Secretary.

[FR Doc. 2012-28139 Filed 11-19-12; 8:45 am]

BILLING CODE 6717-01-P